DEPARTMENT OF STATE

[Public Notice 7996]

Shipping Coordinating Committee; Notice of Committee Meeting

The Shipping Coordinating Committee (SHC) will conduct an open meeting at 9:30 a.m. on Thursday, September 20, 2012 in Room 5-0624 of the United States Coast Guard Headquarters Building, 2100 Second Street SW., Washington, DC 20593-0001. The primary purpose of the meeting is to prepare for the International Maritime Organization's (IMO) Diplomatic Conference for the Safety of Fishing Vessels to be held at the Cape Town International Convention Centre (CTICC), Convention Square, 1 Lower Long Street, Cape Town, South Africa, from October 9-11, 2012.

The agenda items to be considered include:

—Opening of the Conference

—Election of the President

—Adoption of the agenda

—Adoption of the Rules of Procedure

—Election of the Vice-Presidents and other officers of the Conference

—Appointment of the Credentials Committee

—Organization of the work of the Conference, including the establishment of other committees, as necessary

—Consideration of the draft Agreement on the Implementation of the Torremolinos Protocol of 1993 relating to the 1977 Torremolinos International Convention for the Safety of Fishing Vessels

—Consideration of draft resolutions and recommendations and related matters

—Consideration of the reports of the committees

—Adoption of the Final Act and any instruments, recommendations and resolutions resulting from the work of the Conference

—Signature of the Final Act of the Conference

Members of the public may attend this meeting up to the seating capacity of the room. To facilitate the building security process, and to request reasonable accommodation, those who plan to attend should contact the meeting coordinator, LCDR Catherine Phillips, by email at catherine.a.phillips@uscg.mil, by phone at (202) 372-1374, by fax at (202) 372-1925, or in writing at Commandant (CG-ENG-2), U.S. Coast Guard, 2100 2nd Street SW., Stop 7126, Washington, DC 20593-7126 not later than September 13, 2012, 7 days prior to the meeting. Requests made after September 13, 2012 might not be able to be accommodated. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: www.uscg.mil/imo.

Dated: August 21, 2012.
Brian Robinson,
Executive Secretary, Shipping Coordinating Committee, Department of State.

[FR Doc. 2012-21208 Filed 8-27-12; 8:45 am]

BILLING CODE 4710-09-P